DEPARTMENT OF AGRICULTURE

Rural Utilities Service

[Docket #RUS-22-ELECTRIC-0008]

Next Era Energy Resources, LLC, Notice of Availability of a Final Environmental Impact Statement

AGENCY: Rural Utilities Service, USDA.

ACTION: Notice of availability of a final environmental impact statement.

SUMMARY: Notice is hereby given that the Rural Utilities Service (RUS), an agency within the Department of Agriculture (USDA), has prepared a Final Environmental Impact Statement (FEIS) to meet its responsibilities under the National Environmental Policy Act (NEPA), RUS's implementing regulations, and other applicable environmental requirements related to providing financial assistance for Next Era Energy Resources, LLC's (NEER or the Applicant) proposed Skeleton Creek Solar and Battery Storage Project (Project). The Project is a proposed 250-megawatt (MW) solar array, plus 200-MW/800-megawatt-hour (MWh) storage facility using photovoltaic (PV) modules on private lands in Garfield County. RUS will also use the FEIS to meet its responsibilities under Section 106 of the National Historic Preservation Act, and its implementing regulations, “Protection of Historic Properties”.

DATES: Written comments on this FEIS will be accepted no later than 30 days following the publication of the U.S. Environmental Protection Agency's notice of receipt of the FEIS in the Federal Register (EPA Publication Date April 8, 2022).

ADDRESSES: Submit comments to SkeletonCreekSolarPublicComments@usda.gov. The FEIS and other Project-related information is available at the Rural Utilities Service website located at https://www.rd.usda.gov/environmentalstudy/skeleton-creek-solar-and-battery-storage-project-garfield-county-oklahoma.

All information related to the Project is available at this website. In addition, a hardcopy of the FEIS is available at the Enid Public Library, located at 120 W Maine St., Enid, OK 73701. Parties wishing to be placed on the mailing list for future information or to receive hard or electronic copies of the EIS should send an email to SkeletonCreekSolarPublicComments@usda.gov

FOR FURTHER INFORMATION CONTACT: To receive copies of the FEIS or request information on the Project, the FEIS process, contact: Kristen Bastis, Archeologist, USDA, Rural Utilities Service, 1400 Independence Ave. SW, Mail Stop 1570, Washington, DC 20250, by phone at 202-692-4910, or email SkeletonCreekSolarPublicComments@usda.gov.

SUPPLEMENTARY INFORMATION: RUS is serving as the lead Federal agency, as defined at 40 CFR 1501.7, for preparation of the FEIS. Cooperating agencies for this Project include the United States Army Corps of Engineers, the Bureau of Land Management, and the Bureau of Indian Affairs. The United States Fish and Wildlife Service is a participating agency for this Project. The following three federal agencies will use this FEIS to inform decisions about funding, authorizing, or permitting various components of the Project:

• RUS will evaluate whether or not to provide Project financial assistance.

• The U.S. Army Corps of Engineers will review the Applicant's permit application, as required by Section 404 under the Clean Water Act.

• The U.S. Fish and Wildlife Service will determine the likelihood of Project effects on listed species, as required under Section 7 of the Endangered Species Act.

The FEIS addresses the construction and operation of the Project, which consists of a 250-MW solar array, plus 200-MW/800-MWh storage facility in Garfield County, Oklahoma. The Project consists of four major components: Photovoltaic solar arrays, energy storage facilities, linear facilities, and transmission interconnection facilities (Proposed Action). The energy storage facilities consist of batteries, solar trackers, and solar power inverters. Linear facilities include a network of internal access roads, communication cables or lines, and a distribution power network for construction and operations control systems. The transmission interconnection facilities include a substation/switchyard that interconnects to the existing OG&E 345-kV Woodring Substation via a gen-tie line. These components are explained in detail in the FEIS.

The Applicant is a utility company with more than 180 MW of battery energy storage systems in operation across the United States and Canada. Since the Applicant entered into a power purchase agreement with Western Farmers Electric Cooperative (WFEC) for the Project, the Project's purpose and need is focused on meeting the energy buyer's (WFEC) needs. WFEC's objective is to provide safe, adequate, and reliable power to its members at the lowest reasonable cost. The Project would allow the Applicant to provide the additional generation capacity needed by WFEC to achieve these goals within the service territories of their member cooperatives. Specifically, the Project would provide a source of non-dispatchable power via solar panels that increase capacity, whereas battery storage would provide a source of dispatchable power that increases the reliability of generated power to the grid. The pairing of battery storage with solar panels would further allow WFEC to meet peak demand needs without adding additional fossil fuel consumption to the system. In addition, the Project would help WFEC and the Southwest Power Pool to continue to comply with Oklahoma legislative declarations to facilitate the delivery of renewable energy.

Two additional alternatives, the Other Action Alternative and the No Action alternative, were evaluated in the FEIS. Under the No Action alternative, the Project would not be undertaken. Under the Other Action Alternative, the Project would be situated on buildable land located east of the Proposed Action.

RUS used input provided by government agencies, private organizations, and the public in the preparation of the FEIS. RUS has considered all comments received on the Draft EIS and revised the EIS accordingly. Following the 30-day comment period for the FEIS, RUS will prepare a Record of Decision (ROD). A Notice announcing the availability of the ROD will be published in the Federal Register and in local newspapers.

In accordance with Section 106 of the National Historic Preservation Act and its implementing regulation, “Protection of Historic Properties” (36 CFR 800) and as part of its broad environmental review process, RUS must take into account the effect of the proposed project on historic properties. Pursuant to 36 CFR 800.2(d)(3), RUS is using its procedures for public involvement under NEPA to meet its responsibilities to solicit and consider the views of the public during Section 106 review. Any party wishing to participate more directly with RUS as a “consulting party” in Section 106 review may submit a written request to the RUS contact provided in this notice.

The proposed project involves unavoidable impacts to wetlands and floodplains; this Notice of Availability also serves as a statement of no practicable alternatives to impacts on wetlands and floodplains, in accordance with Executive Orders 11990 and 11988, respectively.

Any final action by RUS related to the Project will be subject to, and contingent upon, compliance with all relevant executive orders and federal, state, and local environmental laws and regulations in addition to the completion of the environmental review requirements as prescribed in Rural Utilities Service Environmental Policies and Procedures, 7 CFR part 1970.

Christopher A. McLean,
Acting Administrator, Rural Utilities Service.

[FR Doc. 2022-07390 Filed 4-6-22; 8:45 am]

BILLING CODE 3410-15-P